SMALL BUSINESS ADMINISTRATION

[Declaration of Disaster #3271; Amendment #3]

State of Minnesota

In accordance with a notice from the Federal Emergency Management Agency, dated July 28, 2000, the above-numbered Declaration is hereby amended to include Yellow Medicine County, Minnesota as a disaster area due to damages caused by severe storms, flooding, and tornadoes beginning on May 17, 2000, and continuing through July 26. Please note the extension of the incident period and the expansion of the incident type to include tornadoes.

In addition, applications for economic injury loans from small businesses located in the following contiguous counties may be filed until the specified date at the previously designated location:

Chippewa, Lac Qui Parle, Lincoln, Lyon, Redwood, and Renville Counties in Minnesota, and Deuel County, South Dakota. Any counties contiguous to the above-named primary counties and not listed herein have been previously declared.

The economic injury number for South Dakota is 9I0300.

All other information remains the same, i.e., the deadline for filing applications for physical damage is August 29, 2000 and for economic injury the deadline is March 30, 2001.

(Catalog of Federal Domestic Assistance Program Nos. 59002 and 59008)

Dated: August 1, 2000.
Herbert L. Mitchell,
Acting Associate Administrator for Disaster Assistance.

[FR Doc. 00-20391 Filed 8-10-00; 8:45 am]

BILLING CODE 8025-01-P